FEDERAL COMMUNICATIONS COMMISSION

Notice of Public Information Collection(s) Being Reviewed by the Federal Communications Commission for Extension Under Delegated Authority

November 4, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by January 10, 2005. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judith B. Herman at 202-418-0214 or via the internet at Judith-B.Herman@fcc.gov.

SUPPLEMENTARY INFORMATION: OMB Control No.: 3060-1042.

Title: Request for Technical Support—Help Request Form.

Form No.: N/A.

Type of Review: Extension of a currently approved collection.

Respondents: Individuals or households, business or other for profit, not-for-profit institutions and state, local or tribal government.

Number of Respondents: 36,300.

Estimated Time Per Response: 8 minutes.

Frequency of Response: On occasion reporting requirement.

Total Annual Burden: 4,840 hours.

Annual Cost Burden: $387,200.

Privacy Act Impact Assessment: Yes.

Needs and Uses: This information collection will be used by the public for submitting electronic support requests in using Wireless Telecommunications Bureau (WTB) processes and computer applications. This includes issues, problems, and questions about using software used for licensing, applying for licenses, participating in auctions for spectrum, and maintaining license information. This form will be submitted in lieu of free form email requests for support and will facilitate expedited processing of these requests by staff, resulting in a faster turn around time for responses and correct answers.

Federal Communications Commission.
Marlene H. Dortch,
Secretary.

[FR Doc. 04-25062 Filed 11-9-04; 8:45 am]

BILLING CODE 6712-01-P